DEPARTMENT OF COMMERCE

International Trade Administration

[A-580-809]

Circular Welded Non-Alloy Steel Pipe From the Republic of Korea; Amended Final Results of Antidumping Administrative Review

AGENCY: Import Administration, International Trade Administration, Department of Commerce.

ACTION: Notice of amended final results of antidumping duty administrative review of circular welded non-alloy steel pipe from the Republic of Korea.

SUMMARY: On April 11, 2001, the Department published the final results of the administrative review of the antidumping duty order on circular welded non-alloy steel pipe from the Republic of Korea (see Circular Welded Non-Alloy Steel Pipe from the Republic of Korea; Final Results of Antidumping Administrative Review, 66 FR 18747 (April 11, 2001) (“Final Results”)). On April 16, 2001, the respondents Hyundai Pipe Co., Ltd., Shinho Steel Co., Ltd., and SeAH Steel Corporation submitted allegations of ministerial errors. On April 23, 2001, the domestic interested parties submitted comments. Based on our review of the submissions received from all parties regarding potential ministerial errors, we have made certain corrections to the margin calculation for all three respondents. This correction results in a margin of 2.53 percent for HDP, 0.95 percent for SeAH, and 2.99 percent for Shinho.

EFFECTIVE DATE: May 23, 2001.

FOR FURTHER INFORMATION CONTACT: Greg Campbell or Suresh Maniam, Group 1, Office I, Antidumping/Countervailing Duty Enforcement, Import Administration, International Trade Administration, U.S. Department of Commerce, 14th Street and Constitution Avenue, NW., Washington, DC 20230; telephone (202) 482-2239 or (202) 482-0176, respectively.

SUPPLEMENTARY INFORMATION:

The Applicable Statute

Unless otherwise indicated, all citations to the Tariff Act of 1930, as amended (the “Act”), are references to the provisions effective January 1, 1995, the effective date of the amendments made to the Act by the Uruguay Round Agreements Act (“URAA”). In addition, unless otherwise indicated, all citations to the Department of Commerce's (“Department's”) regulations are to 19 CFR Part 351 (2000).

Background

On April 11, 2001, the Department published the Final Results. On April 16, 2001, the respondents Hyundai Pipe Co., Ltd.¹ (“HDP”), Shinho Steel Co., Ltd. (“Shinho”), and SeAH Steel Corporation (“SeAH”) submitted allegations that the Final Results contained ministerial errors. On April 23, 2001, the domestic interested parties submitted comments regarding Shinho's and SeAH's allegations. The period of review (“POR”) is November 1, 1998, through October 31, 1999.

The Department has conducted this administrative review in accordance with section 751 of the Act.

Scope of the Review

¹ In a letter dated January 5, 2001, HDP informed the Department that its corporate name would change to Hyundai Steel Company effective February 1, 2001. On February 27, 2001, the Department initiated a changed circumstances review to determine whether entries naming “Hyundai Hysco” as manufacturer or exporter should receive the cash deposit rate currently applied to HDP. Certain Circular Welded Non-Alloy Steel Pipe from the Republic of Korea; Initiation of Changed Circumstances Antidumping Duty Administrative Review, 66 FR 12460 (February 27, 2001). Pending a final determination in that changed circumstances review, we will continue to refer to the respondent in the instant review as HDP.

The merchandise subject to this review is circular welded non-alloy steel pipe and tube, of circular cross-section, not more than 406.4mm (16 inches) in outside diameter, regardless of wall thickness, surface finish (black, galvanized, or painted), or end finish (plain end, beveled end, threaded, or threaded and coupled). These pipes and tubes are generally known as standard pipes and tubes, and are intended for the low-pressure conveyance of water, steam, natural gas, air, and other liquids and gases in plumbing and heating systems, air-conditioning units, automatic sprinkler systems, and other related uses. Standard pipe may also be used for light load-bearing applications, such as for fence tubing, and as structural pipe tubing used for framing and as support members for reconstruction or load-bearing purposes in the construction, shipbuilding, trucking, farm equipment, and other related industries. Unfinished conduit pipe is also included in this order.

All carbon-steel pipes and tubes within the physical description above are included within the scope of this review except line pipe, oil-country tubular goods, boiler tubing, mechanical tubing, pipe and tube hollows for redraws, finished scaffolding, and finished conduit. In accordance with the Department's Final Negative Determination of Scope Inquiry on Certain Circular Welded Non-Alloy Steel Pipe and Tube from Brazil, the Republic of Korea, Mexico, and Venezuela (61 11608, March 21, 1996), pipe certified to the API 5L line-pipe specification and pipe certified to both the API 5L line-pipe specifications and the less-stringent ASTM A-53 standard-pipe specifications, which falls within the physical parameters as outlined above, and entered as line pipe of a kind used for oil and gas pipelines is outside of the scope of the antidumping duty order.

Imports of these products are currently classifiable under the following Harmonized Tariff Schedule of the United States (HTSUS) subheadings: 7306.30.10.00, 7306.30.50.25, 7306.30.50.32, 7306.30.50.40, 7306.30.50.55, 7306.30.50.85, and 7306.30.50.90. Although the HTSUS subheadings are provided for convenience and customs, the written description of the scope of this proceeding is dispositive.

Analysis of Comments Received

HDP argued that, due to an anomaly in the SAS software used for the margin calculations, certain U.S. sales were matched to home market sales in a less contemporaneous month, despite the existence of more contemporaneous home market sales of similar merchandise. SeAH and Shinho argued that although the Department intended to remove specification as a matching criterion for similar matches only it, in fact, inadvertently removed specification from the calculation program completely—even for purposes of identical matches.

The domestic interested parties made no comments regarding HDP's ministerial error allegation. Regarding SeAH's and Shinho's ministerial error allegation, the domestic interested parties argued that the allegations are not ministerial in nature. Rather, the domestic interested parties content, SeAH and Shinho are merely rearguing a major point from their briefs, namely, that the margin calculation program ought to reflect the matching methodology or prior reviews of this order.

We have addressed these comments regarding ministerial error allegations in detail in the Memorandum to Susan Kuhback, “Ministerial Error Allegations for Final Results of Review” (May 7, 2001). As explained in that memorandum, we agree with DHP's ministerial error allegation. This error, however, affects the margin program for all three respondents and, therefore, we have corrected the error for HDP, as well as for SeAH and Shinho. Regarding SeAh's and Shinho's ministerial error allegations, we find these alleged errors do not constitute ministerial errors under 19 CFR 351.224(c) and, accordingly, have made no changes to the margins to correct them.

Amended Final Results

Based on our review of comments received regarding ministerial errors, we have made the following change to the Final Results: We have corrected the SAS calculation program to allow proper matching of U.S. sales to home market sales.

We determine the following dumping margins exist for the period November 1, 1998, through October 31, 1999:

Manufacturer/Exporter | Margin (percent)
Shinho | 2.99
SeAH | 0.95
HDP | 2.53

We are issuing and publishing this determination and notice in accordance with sections 751(a)(1) and 771(i) of the Act.

Dated: May 11, 2001.
Faryar Shirzad,
Assistant Secretary for Import Administration.

[FR Doc. 01-13052 Filed 5-22-01; 8:45 am]

BILLING CODE 3510-DS-M